DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective dates: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Gilmer County, Georgia, and Incorporated Areas | Docket No.: FEMA-B-1155
Cartecay River | Approximately 1.12 miles upstream of Holt Bridge Road | +1290 | Unincorporated Areas of Gilmer County.
| Approximately 0.24 mile upstream of the Owltown Creek confluence | +1519
* National Geodetic Vertical Datum.
+ North American Vertical Datum.
# Depth in feet above ground.
‸ Mean Sea Level, rounded to the nearest 0.1 meter.
ADDRESSES
Unincorporated Areas of Gilmer County
Maps are available for inspection at the Gilmer County Courthouse, 1 Broad Street, Ellijay, GA 30540.
Chisago County, Minnesota, and Incorporated Areas
Docket No.: FEMA-B-1134
Lake Ellen | Entire shoreline | +895 | City of Chisago City.
Skogman Lake | Entire shoreline within Chisago County | +950 | Unincorporated Areas of Chisago County.
* National Geodetic Vertical Datum.
+ North American Vertical Datum.
# Depth in feet above ground.
‸ Mean Sea Level, rounded to the nearest 0.1 meter.
ADDRESSES
City of Chisago City
Maps are available for inspection at City Hall, 10625 Railroad Avenue, Chisago City, MN 55013.
Unincorporated Areas of Chisago County
Maps are available for inspection at the Chisago County Government Center, 313 North Main Street, Center City, MN 55012.
Clay County, Minnesota, and Incorporated Areas | Docket No.: FEMA-B-1078
Buffalo River | At the confluence with the Red River of the North | +883 | City of Georgetown, Unincorporated Areas of Clay County.
| Just downstream of U.S. Route 10 (1st crossing) | +948
Oakport Coulee | At the convergence with the Red River of the North | +893 | Unincorporated Areas of Clay County.
| Approximately 2,500 feet downstream of Wall Street Avenue North/County Highway 22 | +896
County Ditch No. 20 (Lower Reach) | At the convergence with the Red River of the North | +888 | Unincorporated Areas of Clay County.
| At the divergence from County Ditch No. 20 (Connecting Reach/Upper Reach) | +893
County Ditch No. 41 | Approximately 5,645 feet downstream of Main Street South/County Highway 78 | +908 | City of Moorhead, Unincorporated Areas of Clay County.
| At the divergence of County Ditch No. 41 Lateral No. 1 | +910
County Ditch No. 41 Lateral No. 1 | At 34th Street North | +906 | City of Dilworth, Unincorporated Areas of Clay County.
| At the divergence of County Ditch No. 41 | +910
County Ditch No. 50 | At 34th Street North | +905 | City of Dilworth.
| Approximately 1,700 feet upstream of U.S. Route 10/Center Avenue East | +910
County Drain No. 51 | At the confluence with the Buffalo River | +891 | Unincorporated Areas of Clay County.
| Approximately 3,900 feet upstream of 90th Avenue North/County Highway 26 | +902
Glyndon Tributary | Approximately 1,700 feet downstream of U.S. Route 10/State Street | +916 | City of Glyndon, Unincorporated Areas of Clay County.
| At 110th Street South/County Highway 71 | +926
Red River of the North | At the Norman County boundary | +879 | City of Georgetown, City of Moorhead, Unincorporated Areas of Clay County.
| At the Wilkin County boundary | +919
South Branch Buffalo River | At the confluence with the Buffalo River | +915 | Unincorporated Areas of Clay County.
| Approximately 200 feet downstream of 180th Avenue South | +942
South Branch Wild Rice River | Backwater area approximately 1,450 feet downstream of Burlington Northern & Santa Fe Railway/State Highway 32 | +1119 | City of Ulen.
Stony Creek | At the confluence with South Branch Buffalo River | +924 | Unincorporated Areas of Clay County.
| Approximately 100 feet upstream of the confluence with South Branch Buffalo River | +924
Unnamed Tributary to Whisky Creek | At 165th Avenue South | +993 | Unincorporated Areas of Clay County.
| Approximately 3,110 feet upstream of Front Street South/County Highway 52 | +1030
* National Geodetic Vertical Datum.
+ North American Vertical Datum.
# Depth in feet above ground.
‸ Mean Sea Level, rounded to the nearest 0.1 meter.
ADDRESSES
City of Dilworth
Maps are available for inspection at 21st Avenue Southeast, Dilworth, MN 56529.
City of Georgetown
Maps are available for inspection at 127 Main Street, Georgetown, MN 56546.
City of Glyndon
Maps are available for inspection at 36 3rd Street Southeast, Glyndon, MN 56547.
City of Moorhead
Maps are available for inspection at 500 Center Avenue, Moorhead, MN 56561.
City of Ulen
Maps are available for inspection at 201 1st Street Northwest, Ulen, MN 56585.
Unincorporated Areas of Clay County
Maps are available for inspection at 807 11th Street North, Moorhead, MN 56560.
Tioga County, New York (All Jurisdictions)
Docket No.: FEMA-B-1089
Apalachin Creek | At the confluence with the Susquehanna River | +826 | Town of Owego.
| Approximately 1,729 feet upstream of Main Street | +826
Owego Creek | At the confluence with the Susquehanna River | +813 | Town of Tioga, Village of Owego.
| Approximately 3,529 feet upstream of Waverly Road/West Main Street | +813
Susquehanna River | Approximately 2.3 miles upstream of State Route 17 | +781 | Town of Barton, Town of Nichols, Town of Owego, Town of Tioga, Village of Nichols, Village of Owego.
| Approximately 2.4 miles upstream of Valley View Drive | +829
West Branch Owego Creek | Approximately 2.86 miles upstream of West Newark Cross Road | +1028 | Town of Berkshire.
| Approximately 2.95 miles upstream of West Newark Cross Road | +1029
* National Geodetic Vertical Datum.
+ North American Vertical Datum.
# Depth in feet above ground.
‸ Mean Sea Level, rounded to the nearest 0.1 meter.
ADDRESSES
Town of Barton
Maps are available for inspection at the Barton Town Hall, 304 State Route 17C, Waverly, NY 14892.
Town of Berkshire
Maps are available for inspection at the Town Hall, 18 Railroad Avenue, Berkshire, NY 13736.
Town of Nichols
Maps are available for inspection at the Nichols Town Hall, 54 East River Road, Nichols, NY 13812.
Town of Owego
Maps are available for inspection at the Owego Town Hall, 2354 State Route 434, Apalachin, NY 13812.
Town of Tioga
Maps are available for inspection at the Tioga Town Hall, 54 5th Avenue, Tioga Center, NY 13845.
Village of Nichols
Maps are available for inspection at the Nichols Town Hall, 54 East River Road, Nichols, NY 13812.
Village of Owego
Maps are available for inspection at the Owego Village Municipal Building, Old Jail, 178 Main Street, Owego, NY 13827.
Wagoner County, Oklahoma, and Incorporated Areas
Docket Nos.: FEMA-B-1022 and FEMA-B-1112
Adams Creek | Approximately 717 feet downstream of the confluence with School Creek | +600 | Town of Fair Oaks.
| Approximately 0.61 mile upstream of the confluence with School Creek | +605
Arkansas River | Approximately 6,809 feet from U.S. Route 69 upstream to the limit of detailed study | +516 | Unincorporated Areas of Wagoner County.
| Approximately 15,526 feet from U.S. Route 69 downstream to the limit of detailed study | +523
Arkansas River (Corp of Engineers) | Approximately 10,354 feet from State Highway 104 downstream to the limit of detailed study | +551 | Unincorporated Areas of Wagoner County.
| Limit of detailed study at Tulsa County boundary | +582
East Coal Creek | Approximately 386 feet upstream from River Park Avenue | +561 | City of Wagoner.
| Approximately 213 feet upstream of Railroad Culvert | +570
Salt Creek | Approximately 0.60 mile downstream of 305th Avenue | +557 | Town of Fair Oaks.
| Approximately 365 feet upstream of 257th Avenue | +607
Verdigris River | Approximately 245 feet downstream of 72nd Street | +516 | Town of Okay.
| Approximately 0.45 mile upstream of 72nd Street | +516
* National Geodetic Vertical Datum.
+ North American Vertical Datum.
# Depth in feet above ground.
‸ Mean Sea Level, rounded to the nearest 0.1 meter.
ADDRESSES
Town of Fair Oaks
Maps are available for inspection at the Rogers County Commissioners Office, 219 South Missouri Street, Claremore, OK 74017.
Town of Okay
Maps are available for inspection at the Wagoner County Commissioners Office, 306 East Cherokee Street, Wagoner, OK 74107.
City of Wagoner
Maps are available for inspection at the Wagoner County Commissioners Office, 306 East Cherokee Street, Wagoner, OK 74107.
Unincorporated Areas of Wagoner County
Maps are available for inspection at the Wagoner County Commissioners Office, 306 East Cherokee Street, Wagoner, OK 74107.
Lawrence County, South Dakota, and Incorporated Areas | Docket No.: FEMA-B-1069
Hungry Hollow Gulch | Approximately 350 feet downstream of Ames Avenue | +3632 | City of Spearfish.
| Approximately 645 feet upstream of Saint Joe Street | +3699
Ice House Creek | Approximately 25 feet upstream of Grant Street | +3658 | City of Spearfish.
| Approximately 50 feet upstream of State Street | +3686
Ice House Creek Tributary A | Approximately 73 feet downstream of 8th Street | +3663 | City of Spearfish.
| Approximately 150 feet downstream of State Street | +3671
Riggs Gulch | Approximately 200 feet downstream of U.S. Route 14A | +3764 | City of Spearfish.
| Approximately 920 feet upstream of Colorado Boulevard | +3843
Spearfish Creek | Just downstream of Utah Boulevard | +3570 | City of Spearfish, Unincorporated Areas of Lawrence County.
| Approximately 1,300 feet upstream of Winterville Drive | +3726
Unnamed Tributary to Higgins Gulch | Approximately 4,430 feet downstream of the I-90 West ramp | +3440 | City of Spearfish.
| Approximately 1,500 feet downstream of the I-90 West ramp | +3491
* National Geodetic Vertical Datum.
+ North American Vertical Datum.
# Depth in feet above ground.
‸ Mean Sea Level, rounded to the nearest 0.1 meter.
ADDRESSES
City of Spearfish
Maps are available for inspection at 625 5th Street, Spearfish, SD 57783.
Unincorporated Areas of Lawrence County
Maps are available for inspection at 90 Sherman Street, Deadwood, SD 57732.
Sumner County, Tennessee, and Incorporated Areas
Docket No.: FEMA-B-1185
East Camp Creek | Approximately 1,110 feet downstream of U.S. Route 31 | +453 | City of Gallatin.
| At the downstream side of State Route 25 | +486
North Donoho Branch | At the upstream side of the railroad | +794 | City of Portland.
| Approximately 0.6 mile upstream of the railroad | +794
Sink Hole Creek | At the downstream side of Newton Lane | +475 | City of Gallatin, Unincorporated Areas of Sumner County.
| Approximately 0.4 mile upstream of Airport Driveway | +571
Sink Hole Creek Tributary | Approximately 320 feet upstream of the Sink Hole Creek confluence | +498 | City of Gallatin, Unincorporated Areas of Sumner County.
| Approximately 580 feet upstream of Airport Road | +547
Station Camp Creek | At the upstream side of Lower Station Camp Road | +452 | City of Gallatin, City of Hendersonville, Unincorporated Areas of Sumner County.
| Approximately 0.8 mile downstream of the Strother Branch confluence | +554
* National Geodetic Vertical Datum.
+ North American Vertical Datum.
# Depth in feet above ground.
‸ Mean Sea Level, rounded to the nearest 0.1 meter.
ADDRESSES
City of Gallatin
Maps are available for inspection at City Hall, 132 West Main Street, Gallatin, TN 37066.
City of Hendersonville
Maps are available for inspection at City Hall, Planning and Zoning, 1 Executive Park Drive, Hendersonville, TN 37075.
City of Portland
Maps are available for inspection at City Hall, 100 South Russell Street, Portland, TN 37148.
Unincorporated Areas of Sumner County
Maps are available for inspection at the Sumner County Building Department, 355 North Belvedere Drive, Room 202, Gallatin, TN 37066.

(Catalog of Federal Domestic Assistance No. 97.022, “Flood Insurance.”)

Dated: March 22, 2012.
Sandra K. Knight,
Deputy Associate Administrator for Mitigation, Department of Homeland Security, Federal Emergency Management Agency.

[FR Doc. 2012-8568 Filed 4-9-12; 8:45 am]

BILLING CODE 9110-12-P